DEPARTMENT OF TRANSPORTATION

Federal Aviation Administration

14 CFR Parts 21, 36, and 91

[Docket Nos. FAA-2000-7587, FAA-2002-12771, and FAA-1999-6411]

RIN 2120-AI01

Disposition of Comments to Final Rules: Noise Certification Standards for Subsonic Jet and Subsonic Transport Category Large Airplanes; Transition to an All Stage 3 Fleet Operating in the 48 Contiguous United States and the District of Columbia; and, Equivalent Safety Provisions for Fuel Tank System Fault Tolerance Evaluations (SFAR 88)

AGENCY: Federal Aviation Administration (FAA), DOT.

ACTION: Final rules; disposition of comments.

SUMMARY: The FAA is providing response to public comments on three immediately adopted rules. The effect of this action is to close these rulemaking actions. This action is part of our effort to address recommendations of the Government Accounting Office and the Management Advisory Council to reduce the number of items in the Regulatory Agenda, and to accurately reflect agency initiatives.

FOR FURTHER INFORMATION CONTACT: Alicia K. Douglas, Office of Rulemaking (ARM-204), Federal Aviation Administration, 800 Independence Avenue, SW., Washington DC 20591, (202) 267-9681, alicia.k.douglas@faa.gov.

SUPPLEMENTARY INFORMATION:

Noise Certification Standards for Subsonic Jet and Subsonic Transport Category Large Airplanes, RIN 2120-AH03

On July 8, 2002, the FAA published a final rule (67 FR 45193), entitled “Noise Certification Standards for Subsonic Jet Airplanes and Subsonic Transport Category Large Airplanes”. This immediately adopted rule amended the noise certification standards for subsonic jet airplanes and subsonic transport category large airplanes. These changes were based on the joint effort of the FAA, the European Joint Aviation Authorities (JAA), and the Aviation Rulemaking Advisory Committee. The intent of the change was to harmonize the U.S. noise certification regulations and the European Joint Aviation Requirements for subsonic jet airplanes and subsonic transport category large airplanes to simplify airworthiness approvals for import and export purposes. The FAA invited comments on revised 14 CFR 36.2 on the applicable noise requirements. The rule became effective August 7, 2002. The comment period closed on September 6, 2002.

The FAA received four responses to the request for comments. Of the four responses, two comments were outside the scope of the request for comments.

Two commenters agreed with the regulations and expressed appreciation for the FAA and JAA efforts to harmonize the noise certification standards. One of the commenters proposed a revision to 14 CFR 36.2 to incorporate the § 21.17(c) time periods for type certification applications. The rule harmonized the applicability requirements of 14 CFR 36.2 with the intent of International Civil Aviation Organization Annex 16, Chapter 1. For harmonization, the FAA chose to adopt the five-year time period specified in Annex 16.

In addition, commenters identified a typographical error, suggested we add a definition of the term, “other standard”, and recommended a change in the location of the word “notwithstanding” in two paragraphs. We corrected the typographical error in the final rule correction notice, published on October 10, 2002 (67 FR 63194). We included an explanation of “other standards” in the part 36 advisory material. Placement of the word “notwithstanding” at the beginning of the paragraphs did not change the meaning. Therefore, we plan to make no substantive changes to the rule because of these comments.

Transition to an All Stage 3 Fleet Operating in the 48 Contiguous United States and the District of Columbia, RIN 2120-AH41

On July 15, 2002, the FAA published a final rule (67 FR 46568), entitled “Transition to an All Stage 3 Fleet Operating in the 48 Contiguous United States and the District of Columbia”. This rule removed outdated language, revised several sections, and added one new section to the noise operating regulations. These revisions were to make the noise operating regulations consistent with statutory changes to the Airport Noise and Capacity Act (Act). The FAA invited comments to the new rule. The rule became effective July 15, 2002. The comment period closed on August 14, 2002.

The FAA received comments from the Raleigh-Durham Airport Authority . They noted cross-references to deleted sections and suggested we insert the word “takeoff” in certain definitions. They also asserted that the FAA exceeded its authority in allowing the intermix of engines under 14 CFR part 21.

After reviewing the authority's comments, the FAA has determined that the changes made by the final rule are consistent with the Act. Therefore, we plan to make no changes to the rule (67 FR 46568) because of these comments.

Equivalent Safety Provisions for Fuel Tank System Fault Tolerance Evaluations (SFAR 88), RIN 2120-AH85

On September 10, 2002, the FAA published a final rule (67 FR 57490), entitled “Equivalent Safety Provisions for Fuel Tank System Fault Tolerance Evaluations (SFAR 88)”. This immediately adopted rule added a provision to the existing requirements for fuel tank system fault tolerance evaluations to allow type certificate holders to use equivalent safety provisions for demonstrating compliance. The FAA invited comments to the immediately adopted rule. The comment period closed on October 10, 2002.

The FAA received comments on this rule change from two manufacturers and a public interest group. None of the comments opposed the final rule or requested changes within the scope of the final rule. Therefore, the FAA does not intend to amend this rule.

Conclusion

After consideration of the comments submitted in response to the immediately adopted rules, the FAA has determined that no further rulemaking action is necessary. The following rulemaking activity is closed:

• Noise Certification Standards for Subsonic Jet and Subsonic Transport Category Large Airplanes, RIN 2120-AH03.

• Transition to an All Stage 3 Fleet Operating in the 48 Contiguous United States and the District of Columbia, RIN 2120-AH41.

• Equivalent Safety Provisions for Fuel Tank System Fault Tolerance Evaluations (SFAR 88), RIN 2120-AH85.

Closing these rulemaking actions does not preclude the FAA from issuing a notice on these subjects in the future or from committing to any future course of action.

Issued in Washington, DC, on July 11, 2003.
Marion C. Blakey,
Administrator.

[FR Doc. 03-18591 Filed 7-23-03; 8:45 am]

BILLING CODE 4910-13-P